ENVIRONMENTAL PROTECTION AGENCY

40 CFR Part 700

[EPA-HQ-OPPT-2020-0493; FRL-10020-69]

RIN 2070-AK64

Fees for the Administration of the Toxic Substances Control Act (TSCA); Extension of Comment Period

AGENCY: Environmental Protection Agency (EPA).

ACTION: Proposed rule; extension of comment period.

SUMMARY: In the Federal Register of January 11, 2021, the Environmental Protection Agency (EPA) proposed updates and adjustments to the 2018 fees rule established under the Toxic Substances Control Act (TSCA). This document extends the comment period for 30 days from February 25, 2021 to March 27, 2021.

DATES: The comment period for the proposed rule published at 86 FR 1890 on January 11, 2021, is extended. Comments, identified by docket identification (ID) number EPA-HQ-OPPT-2020-0493, must be received on or before March 27, 2021.

ADDRESSES: Submit your comments, identified by docket identification (ID) number EPA-HQ-OPPT-2020-0493, through the Federal eRulemaking Portal at http://www.regulations.gov. Follow the online instructions for submitting comments. Do not submit electronically any information you consider to be Confidential Business Information (CBI) or other information whose disclosure is restricted by statute.

Please note that due to the public health emergency the EPA Docket Center (EPA/DC) and Reading Room was closed to public visitors on March 31, 2020. Our EPA/DC staff will continue to provide customer service via email, phone, and webform. For further information on EPA/DC services, docket contact information and the current status of the EPA/DC and Reading Room, please visit https://www.epa.gov/dockets.

FOR FURTHER INFORMATION CONTACT:

For technical information contact: Marc Edmonds, Existing Chemicals Risk Management Division, Office of Pollution Prevention and Toxics, Environmental Protection Agency, 1200 Pennsylvania Ave. NW, Washington, DC 20460-0001; telephone number: (202) 566-0758; email address: edmonds.marc@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register document of January 11, 2021 (86 FR 1890) (FR-10018-40), for 30 days, from February 25, 2021 to March 27, 2021. In that document, EPA proposed updates and adjustments to the 2018 fees rule established under the Toxic Substances Control Act (TSCA). More information on EPA's proposal can be found in the Federal Register document of January 11, 2021 (86 FR 1890) (FR-10018-40).

An extension of the comment period was requested by stakeholders to allow interested parties additional time to thoroughly review and analyze how the proposed fees will impact parties potentially subject to the proposed updated TSCA fees and fee categories for fiscal years 2022, 2023 and 2024 discussed in the proposed rule. EPA agrees that an extension of the comment period is warranted.

To submit comments, or access the docket, please follow the detailed instructions provided under ADDRESSES. If you have questions, consult the technical persons listed under FOR FURTHER INFORMATION CONTACT.

List of Subjects 40 CFR Part 700

Chemicals, Environmental protection, Hazardous substances, Reporting and recordkeeping requirements, User fees.

Dated: February 16, 2021.
Richard Keigwin,
Acting Deputy Assistant Administrator, Office of Chemical Safety and Pollution Prevention.

[FR Doc. 2021-03554 Filed 2-22-21; 8:45 am]

BILLING CODE 6560-50-P